DEPARTMENT OF THE INTERIOR

Bureau of Ocean Energy Management

[Docket No. BOEM-2024-0039]

Potential Commercial Leasing for Wind Power Development on the Gulf of Mexico Outer Continental Shelf—Request for Competitive Interest

AGENCY: Bureau of Ocean Energy Management, Interior.

ACTION: Public notice of an unsolicited request for a Commercial Outer Continental Shelf Wind Lease, request for competitive interest, and request for public comment.

SUMMARY: The purpose of this public notice is to: describe the unsolicited proposal submitted to the Bureau of Ocean Energy Management (BOEM) by Hecate Energy Gulf Wind LLC (Hecate Energy) to acquire an outer continental shelf (OCS) commercial wind energy lease; solicit indications of interest in acquiring two commercial leases for wind energy development on the OCS in the Gulf of Mexico (GOM) in the areas described in this notice; and solicit public input regarding the areas described in this notice, the potential environmental consequences associated with wind energy development in the areas, and existing and planned multiple uses of the areas.

DATES: Submissions indicating your interest in or providing comments on commercial leasing within the request for competitive interest (RFCI) Areas must be received no later than September 12, 2024. Late submissions may not be considered.

ADDRESSES: Please submit indications of interest in acquiring a commercial wind energy lease within the RFCI Areas electronically via email to renewableenergygomr@boem.gov or hard copy by mail to the following address: Bureau of Ocean Energy Management, Office of Leasing and Plans, 1201 Elmwood Park Boulevard, New Orleans, Louisiana 70123. If you elect to mail a hard copy, also include an electronic copy on a portable storage device.

Please submit comments or other information concerning research or commercial activities within the RFCI Areas by either of the following two methods:

1. Federal eRulemaking Portal: http://www.regulations.gov. In the entry entitled, “Search for dockets and documents on agency actions,” enter BOEM-2024-0039, and then click “search.” Follow the instructions to submit public comments and view supporting and related materials available for this notice.

2. By Mail to the Following Address: Bureau of Ocean Energy Management, Office of Leasing and Plans, 1201 Elmwood Park Boulevard, New Orleans, Louisiana 70123.

Treatment of confidential information is addressed in the section of this notice entitled, “Protection of Privileged or Confidential Information.” BOEM will post all comments on regulations.gov unless labeled as confidential.

FOR FURTHER INFORMATION CONTACT: Karoline DiPerna, BOEM Office of Leasing and Plans, 1201 Elmwood Park Boulevard, New Orleans, Louisiana 70123, (504) 736-5722, or karoline.diperna@boem.gov.

SUPPLEMENTARY INFORMATION:

Purpose of This Request for Competitive Interest

Responses to this public notice will allow BOEM to determine, pursuant to 30 CFR 585.231, whether there is competitive interest in acquiring an OCS commercial wind energy lease in the RFCI Areas. In addition, this notice provides an opportunity for the public to comment on the RFCI Areas, the proposed project, and any potential impacts wind energy development in the RFCI Areas may have. BOEM may use comments received to further identify and refine the areas being considered for wind energy development and inform future environmental analyses related to the project.

This RFCI is published pursuant to subsection 8(p)(3) of the OCS Lands Act, 43 U.S.C. 1337(p)(3), and BOEM's regulations at 30 CFR part 585. Subsection 8(p)(3) of the OCS Lands Act requires that OCS renewable energy leases, easements, and rights-of-way be issued “on a competitive basis unless the Secretary [of the Interior] determines after public notice of a proposed lease, easement, or right-of-way that there is no competitive interest.” This RFCI provides public notice for the areas requested by Hecate Energy described below in the section “Description of the RFCI Areas” and invites the submission of indications of interest in acquiring commercial wind energy leases within the RFCI Areas. Parties who would like to express competitive interest in the RFCI Areas should submit detailed and specific information, as described in the section entitled, “Required Indication of Interest Information.” BOEM will consider the responses to this public notice to determine whether competitive interest exists in the RFCI Areas.

This notice also requests that interested and affected parties comment and provide information about site conditions and any existing or planned multiple uses within the RFCI Areas that may be relevant to the proposed project or its potential impacts.

Background

On February 16, 2024, BOEM received an unsolicited application from Hecate Energy for two commercial wind energy leases on the GOM OCS in Wind Energy Area (WEA) options C and D. Hecate Energy's proposed Gulf Wind Offshore Wind Project 2 (Gulf Wind 2) aims to generate up to 2 gigawatts (GW) of renewable energy in the GOM. Hecate Energy proposes multiple potential uses for this renewable energy, including interconnection to the electric grid, sale in power purchase agreements to private offtakers, or use for Wind-to-X technologies through which offshore wind energy is used to produce another energy resource.

The proposed Gulf Wind 2 project would consist of up to 133 fixed-bottom wind turbine generators (WTGs), each with a capacity of 15-23 megawatts (MW). This would result in an overall maximum capacity of approximately 3,000 MW. Each turbine would be deployed on fixed monopile or jacket foundation types. Turbines would be connected by interconnection cables that are connected to an onshore transition point by an export transmission cable. Export cables may run separately from each of the two lease areas, or the lease areas may be joined offshore with one substation and one central export cable. Following extensive research on points of interconnection (POI) in Texas and Louisiana, Hecate narrowed its selections to three POI and continues to examine 12 potential landfall locations with paths to three designated substations.

More information about Hecate Energy's unsolicited lease request can be viewed at https://www.boem.gov/renewable-energy/state-activities/gulf-mexico-activities.

Determination of Competitive Interest and the Leasing Process

After the publication of this notice, BOEM will evaluate expressions of interest in acquiring a commercial wind energy lease in the RFCI Areas. At the conclusion of the comment period for this public notice, BOEM will review the submissions received and undertake a completeness review for each of those submissions and a qualification review for each of the nominating entities. BOEM will then determine whether competitive interest exists.

If, in response to this notice, BOEM receives one or more expressions of interest in acquiring a commercial wind energy lease from qualified entities who would like to compete for the RFCI Areas, BOEM may decide to move forward with the lease issuance process using competitive procedures pursuant to 30 CFR 585.211-585.225. If BOEM receives no competing expressions of interest from qualified companies, BOEM may decide to move forward with the lease issuance process using the noncompetitive procedures contained in 30 CFR 585.231.

If BOEM decides to proceed with issuing a lease in the RFCI Areas, whether competitively or noncompetitively, it will comply with all applicable requirements and provide the public with additional opportunities to provide input pursuant to 30 CFR part 585 and other applicable laws, such as the National Environmental Policy Act (NEPA). BOEM will also coordinate and consult, as appropriate, with relevant Federal agencies, affected Tribes, affected state agencies, and affected local governments during the lease development and issuance process.

We note that a lease, whether issued through a competitive or noncompetitive process, does not grant the lessee the right to construct any facilities on the lease. A lease would only grant the lessee the exclusive right to submit site assessment and construction and operations plans (30 CFR 585.600 and 585.601) to BOEM for approval before the lessee may proceed to the next stage of lease development.

Description of the RFCI Areas

The RFCI Areas are located in WEA options C and D off the coast of Southeast Texas. WEA C totals 74,240 acres, and WEA D totals 68,288 acres. The combined areas comprise approximately 142,528 acres. Both areas are located within the Gulf of Mexico Call Area, which is located within the Central Planning Area and Western Planning Area on the OCS portion of the Gulf of Mexico. See Figure 1 and Table 1, below.

BILLING CODE 4340-98-P

BILLING CODE 4340-98-C

Figure 1. Map of the RFCI Areas

Table 1—List of OCS Blocks Included in the RFCI Areas
Protraction Name | Protraction No. | Block No.
Beeville | NH14-12 | 7088
Beeville | NH14-12 | 7089
Beeville | NH14-12 | 7090
Beeville | NH14-12 | 7138
Beeville | NH14-12 | 7139
Beeville | NH14-12 | 7140
Beeville | NH14-12 | 7141
Corpus Christi | NG14-03 | 6039
Corpus Christi | NG14-03 | 6040
Corpus Christi | NG14-03 | 6041
Corpus Christi | NG14-03 | 6042
Corpus Christi | NG14-03 | 6090
Corpus Christi | NG14-03 | 6091
Corpus Christi | NG14-03 | 6092
Bay City | NH15-10 | 6853
Bay City | NH15-10 | 6854
Bay City | NH15-10 | 6855
Bay City | NH15-10 | 6902
Bay City | NH15-10 | 6903
Bay City | NH15-10 | 6904
Bay City | NH15-10 | 6905
Bay City | NH15-10 | 6952
Bay City | NH15-10 | 6953
Bay City | NH15-10 | 6954
Bay City | NH15-10 | 7003
Bay City | NH15-10 | 7004

Required Indication of Interest Information

If you intend to submit an expression of interest in acquiring a commercial wind lease within the RFCI Areas, you must provide the following:

(1) The BOEM protraction name, number, and specific whole or partial OCS blocks within the RFCI Areas that are of interest for commercial wind leasing, including any required buffer area(s). If your area(s) includes partial blocks, include the sub-block letter(s) (A-P). Additionally, this information should be submitted as a spatial file compatible with ArcGIS Pro 3.1.0 in a geographic coordinate system (NAD 83) in addition to your hard copy submission. If your submission includes one or more partial blocks, please describe those partial blocks in terms of one sixteenth (i.e., a sub-block) of an OCS block.

Any request for a commercial wind lease located outside of the RFCI Areas should be submitted separately pursuant to 30 CFR 585.230.

(2) A general description of your objectives and the facilities that you would use to achieve those objectives;

(3) A general schedule of proposed activities, including those leading to the development of a commercial wind energy project within the RFCI Areas;

(4) Available and pertinent data and information concerning renewable energy resources and environmental conditions in the area that you would like to lease, including energy and resource data and information used to evaluate the area of interest. Where applicable, spatial information should be submitted in a format compatible with ArcGIS Pro 3.1.0 either in NAD 83 or unprojected;

(5) Documentation demonstrating that you are legally qualified to hold a lease as set forth in 30 CFR 585.107-585.108. Legal qualification documents will be placed in an official file that may be made available for public review. If you would like any part of your legal qualification documentation to be kept confidential, clearly identify what should be kept confidential, and submit it under separate cover (see “Protection of Privileged or Confidential Information” below); and

(6) Documentation demonstrating that you are technically and financially capable of constructing, operating, maintaining, and decommissioning the facilities described in paragraph (2) above. Guidance regarding the documentation that could be used to demonstrate your technical and financial qualifications can be found at: http://www.boem.gov/Renewable-Energy-Program/Regulatory-Information/QualificationGuidelines-pdf.aspx. If you would like any part of your technical and financial qualification documentation to be kept confidential, clearly identify what should be kept confidential, and submit it under separate cover (see “Protection of Privileged or Confidential Information” below).

It is critical that you provide a complete submission of interest so that BOEM may consider your submission in a timely manner. If BOEM reviews your submission and determines that it is incomplete, BOEM will inform you of this determination in writing and describe the information that BOEM needs from you to deem your submission complete. You will be given 15 business days from the date of the letter to provide any information that BOEM has determined is missing from your original submission. If you do not meet this deadline, or if BOEM determines that your second submission is also insufficient, BOEM may deem your submission invalid. In such a case, BOEM will not consider your submission.

Requested Information From Interested or Affected Parties

BOEM is also requesting specific and detailed comments from the public and interested or affected parties regarding the following:

1. Geological, geophysical, and biological bathymetric conditions (including shallow hazards and live bottom).

2. Known archaeological or cultural resource sites on the seabed.

3. Information regarding the identification of historic properties or potential effects to historic properties from leasing, site assessment activities (including the construction of meteorological towers or the installation of meteorological buoys), or commercial wind energy development in the RFCI Areas. This includes potential offshore and onshore archaeological sites or historic properties within or near the RFCI Areas that could potentially be affected by renewable energy activities within the RFCI Areas. This information will inform BOEM's review of future undertakings under section 106 of the National Historic Preservation Act (NHPA) and under NEPA.

4. Information about potentially conflicting uses of the RFCI Areas, including, but not limited to, navigation (in particular, commercial and recreational vessel use); significant sediment resource areas; oil and gas leasing; and recreational and commercial fisheries including, but not limited to, the use of the areas, the fishing gear used, seasonal use, and recommendations for reducing use conflicts.

5. Available and pertinent data and information concerning renewable energy resources and environmental conditions. Where applicable, spatial information should be submitted in a format compatible with ArcGIS Pro 3.1.0 in a geographic coordinate system (NAD 83).

6. Information relating to visual resources and aesthetics, the potential impacts of wind turbines and associated infrastructure to those resources, and potential strategies to help mitigate or minimize any visual effects.

7. Other relevant socioeconomic, cultural, biological, and environmental information.

8. Any other relevant information BOEM should consider during its planning and decision-making process for the purpose of issuing leases in the RFCI Areas.

Protection of Privileged or Confidential Information

Freedom of Information Act

BOEM will protect privileged or confidential information you submit when required by the Freedom of Information Act (FOIA). Exemption 4 of FOIA applies to trade secrets and commercial or financial information that is privileged or confidential. If you would like to protect the confidentiality of such information, please identify and clearly label it with “Contains Confidential Information” and request BOEM treat it as confidential. BOEM will not disclose such information if BOEM determines under 30 CFR 585.114(b) that it qualifies for exemption from disclosure under FOIA. Please label privileged or confidential information “Contains Confidential Information” and consider submitting such information as a separate attachment.

BOEM will not treat as confidential any aggregate summaries of privileged or confidential information or comments not containing such privileged or confidential information. Information that is not labeled as privileged or confidential may be regarded by BOEM as suitable for public release. Additionally, BOEM will not treat as confidential (1) the legal title of any entity submitting an indication of interest (for example, the name of your company), or (2) the list of whole or partial blocks that you are indicating an interest in leasing.

Personally Identifiable Information

BOEM encourages you not to submit anonymous comments. Please include your name and address as part of your comment. You should be aware that your entire comment, including your name, address, and any personally identifiable information (PII) included in your comment, may be made publicly available. All submissions from identified individuals, businesses, and organizations will be available for public viewing on regulations.gov. For BOEM to withhold your PII from disclosure, you must identify any information contained in your comments that, if released, would constitute a clearly unwarranted invasion of your personal privacy. You must also briefly describe any possible harmful consequences of the disclosure of information, such as embarrassment, injury, or other harm.

Section 304 of the National Historic Preservation Act (16 U.S.C. 470w-3(a))

BOEM is required, after consultation with the Secretary, to withhold the location, character, or ownership of historic resources if it determines disclosure may, among other things, risk harm to the historic resources or impede the use of a traditional religious site by practitioners. Those providing information eligible for protection under section 304 of NHPA should designate such information as confidential.

BOEM's Environmental Review Process

BOEM prepared a programmatic environmental assessment (EA) under NEPA and conducted some programmatic consultations in the Call Area of the Gulf of Mexico to consider the environmental consequences associated with issuing commercial wind energy leases. The EA assesses the potential environmental impacts from the issuance of up to 18 leases within the Call Area. This EA is available to the public and can be viewed at https://www.boem.gov/sites/default/files/documents/renewable-energy/state-activities/GOM%20Wind%20Lease%20EA_0.pdf. The EA considered the reasonably foreseeable environmental consequences associated with leasing, such as site characterization activities (including geophysical, geotechnical, archaeological, and biological surveys) and site assessment activities (including installation of a meteorological buoy). BOEM's environmental analysis found no significant impacts. BOEM released a Finding of No Significant Impact (FONSI), available online at https://www.boem.gov/sites/default/files/documents/renewable-energy/state-activities/FONSI_Signed20230524.pdf. Additional, site-specific NEPA would be conducted later in the process if a lessee obtains a lease and submits a project plan. BOEM also conducted programmatic consultations concurrently with, and integrated into, the NEPA process for granting a lease. Existing consultations for the Endangered Species Act and the Magnuson-Stevens Fishery Conservation and Management Act provide programmatic coverage in this area. Additional consultations for the Coastal Zone Management Act, section 106 of the NHPA, and Executive Order 13175, “Consultation and Coordination with Tribal Governments,” would be conducted during review of a potential project plan. Before BOEM allows a lessee to begin construction of a wind energy project in the RFCI Areas, BOEM will consider the potential environmental effects of the construction and operation of any wind energy facility under a separate, project-specific environmental review process. This separate environmental review process would include additional opportunities for public involvement.

Determination of Competitive Interest and Leasing Process

1. Determination of Competitive Interest: Section 8(p)(3) of OCSLA states that “the Secretary shall issue a lease, easement, or right-of-way . . . on a competitive basis unless the Secretary determines after public notice of a proposed lease, easement, or right-of-way that there is no competitive interest.” Accordingly, BOEM must first determine whether there is competitive interest in acquiring a lease within the RFCI Areas to develop offshore wind energy. At the conclusion of the comment period for this RFCI, BOEM will review the expressions of interest received and determine if competitive interest exists in any part of the RFCI Areas. For areas with competitive interest, BOEM may consider proceeding with competitive leasing as described in the section of this RFCI entitled, “Competitive Leasing Process.” For areas where BOEM determines that only one entity is interested, BOEM may consider proceeding with noncompetitive leasing, as described in the section entitled, “Noncompetitive Leasing Process.”

If BOEM determines that competitive interest exists in the RFCI Areas and identifies those areas as appropriate to lease, BOEM may hold a competitive lease sale on any or all portions of the RFCI Areas. In the event BOEM holds such a lease sale, all qualified bidders, including those bidders that did not submit an expression of interest in response to this RFCI, will be able to participate in the lease sale. BOEM reserves the right not to lease any or all portions of the RFCI Areas or to modify such areas from their original, proposed form before offering them for lease.

2. Competitive Leasing Process: BOEM will follow the steps required by 30 CFR 585.211 through 585.226 if it decides to proceed with the competitive leasing process in the RFCI Areas. A Call for Information was issued on November 1, 2021, which includes the areas requested in this RFCI. On May 25, 2023, BOEM announced the availability of the final EA (https://www.boem.gov/sites/default/files/documents/renewable-energy/state-activities/GOM%20Wind%20Lease%20EA_0.pdf) and that it had conducted consultations required by the Coastal Zone Management Act, the Endangered Species Act, the Magnuson-Stevens Fishery Conservation and Management Act, section 106 of the NHPA, and Executive Order 13175—“Consultation and Coordination with Tribal Governments.” Therefore, the next steps in the leasing process would include:

a. Area Identification: Based on the information received in response to this RFCI, BOEM would typically determine the level of commercial interest and identify the areas that would be appropriate to analyze for potential leasing, which would constitute the final WEAs. In this situation, because WEAs have already been finalized, this step would likely not be necessary.

b. Proposed Sale Notice (PSN): If BOEM decides to proceed with a competitive lease sale within the WEAs, BOEM will publish a PSN in the Federal Register with a comment period of 60 days. The PSN would describe the areas BOEM intends to offer for leasing, the proposed conditions of a lease sale, the proposed auction format of the lease sale, and the lease instrument, including lease addenda. Additionally, the PSN would describe the criteria and process for evaluating bids in the lease sale.

c. Final Sale Notice (FSN): After considering the comments on the PSN, if BOEM decides to proceed with a competitive lease sale, it will publish an FSN in the Federal Register at least 30 days before the date of the lease sale.

d. Bid Submission and Evaluation: Following publication of the FSN in the Federal Register, BOEM would offer the lease areas through a competitive sale process, using procedures specified in the FSN. BOEM would review the sale, including bids and bid deposits, for technical and legal adequacy, and ensure that bidders have complied with all applicable regulations. BOEM reserves the right to reject any or all bids and to withdraw an offer to lease an area, even after bids have been submitted.

e. Issuance of a Lease: Following identification of the winning bid on a lease area, BOEM would notify the successful bidder and provide a set of official lease documents for signature. BOEM requires a successful bidder to sign and return the lease, pay the remainder of the bonus bid, if applicable, and file the required financial assurance within 10 business days of receiving the lease documents. Upon receipt of the required payments, financial assurance, and properly signed lease forms, BOEM may execute a lease with the successful bidder.

3. Noncompetitive Leasing Process: BOEM's noncompetitive leasing process would include the following steps:

a. Determination of No Competitive Interest: If, after evaluating all relevant information, BOEM determines there is no competitive interest in all or a portion of the RFCI Areas, it may proceed with the noncompetitive lease issuance process under 30 CFR 585.231(d) through (j), which includes the publication of a determination of no competitive interest in the Federal Register. Hecate Energy would be responsible for paying a fee for the processing costs under 30 CFR 585.112, including any environmental review that BOEM may require before lease issuance. Hecate Energy also would be responsible for submitting any required consistency certification and necessary data and information in a timely manner pursuant to 15 CFR part 930, subpart D, to the applicable State CZMA agency or agencies and BOEM.

b. Review of Lease Request: BOEM would complete all required consultations and environmental analyses before issuing a lease noncompetitively. Further, BOEM would coordinate and consult, as appropriate, with relevant Federal agencies, federally recognized Tribes, affected State and local governments, and other affected or interested parties in formulating lease terms, conditions, and stipulations.

c. Lease Issuance: After completing its review of the lease request, BOEM may offer one or two noncompetitive leases to Hecate Energy covering all or a portion of WEAs C and D. Within 10 business days of receiving the lease(s), Hecate Energy must execute them and provide a lease-specific bond or other authorized financial assurance in the amount of 12 months' rent for each lease, under 30 CFR 585.516, to guarantee compliance with all terms and conditions of each lease. No later than 45 days of receiving the executed lease(s) from BOEM, the lessee must pay BOEM the first 12 months' rent for each lease.

Elizabeth Klein,
Director, Bureau of Ocean Energy Management.

[FR Doc. 2024-16626 Filed 7-26-24; 8:45 am]

BILLING CODE 4340-98-P